DEPARTMENT OF THE TREASURY

Internal Revenue Service

26 CFR Part 31

[REG-160315-03]

RIN 1545-BC89

Sickness or Accident Disability Payments; Correction

AGENCY: Internal Revenue Service (IRS), Treasury.

ACTION: Correction to notice of proposed rulemaking.

SUMMARY: This document corrects a notice of proposed rulemaking (REG-160315-03) that was published in the Federal Register on Friday, March 11, 2005 (70 FR 12164) that provide guidance regarding the treatment of payments made on account of sickness or accident disability under a workers' compensation law for purposes of the Federal Insurance Contributions Act (FICA).

FOR FURTHER INFORMATION CONTACT: David Ford, (202) 622-6040 (not a toll-free number).

SUPPLEMENTARY INFORMATION:

Background

The notice of proposed rulemaking (REG-160315-03) that is the subject of this correction is under section 3121 of the Internal Revenue Code.

Need for Correction

As published, the notice of proposed rulemaking contains an error that may prove to be misleading and is in need of clarification.

Correction of Publication

Accordingly, the notice of proposed rulemaking (REG-160315-03) which is the subject of FR. Doc. 05-4382 is corrected as follows:

On page 12164, column 1, in the preamble, under the paragraph heading, FOR FURTHER INFORMATION CONTACT, lines 6 through 8, the language “comments, the hearing and/or to be placed on the building access list to attend the hearing, LaNita M. Vandyke,” is corrected to read “comments, LaNita Vandyke,”.

Cynthia E. Grigsby,
Acting Chief, Publications and Regulations Specialist, Legal Processing Division, Associate Chief Counsel, (Procedures and Administration).

[FR Doc. 05-7324 Filed 4-11-05; 8:45 am]

BILLING CODE 4301-01-P